DEPARTMENT OF ENERGY

Federal Energy Regulatory Commission

[Docket No. RP01-355-000]

Panhandle Eastern Pipe Line Company; Notice of Proposed Changes in FERC Gas Tariff

April 4, 2001.

Take notice that on March 30, 2001, Panhandle Eastern Pipe Line Company (Panhandle) tendered for filing as part of its FERC Gas Tariff, First Revised Volume No. 1, the tariff sheets listed on Appendix A to the filing, to become effective May 1, 2001.

Panhandle states that this filing is made in accordance with Section 25 (Flow Through of Cash-Out Revenues In Excess of Costs and Scheduling Charges Assessed Against Affiliates) of the General Terms and Conditions (GT&C) in Panhandle's FERC Gas Tariff, First Revised Volume No. 1. The revised tariff sheets filed herewith reflect the following changes to Panhandle's currently effective Maximum Reservation Rates under Rate Schedules FT, EFT, LFT, HFT and SCT, and currently effective Maximum commodity rates under Rate Schedules IT and EIT:

(1) A ($0.02) per Dt. reduction from the Base Reservation Rate for each of the Gathering Charge Rate, Field Zone Transmission Charge Rate and Market Zone Access Charge Rate under Rate Schedules FT, EFT, LFT and HFT;

(2) A (0.13¢) per Dt. reduction from the Base Rate for each of the Gathering Charge Rate, Field Zone Transmission Charge Rate and Market Zone Access Charge Rate under Rate Schedule SCT; and

(3) (0.07¢) per Dt. reduction from the Base Rate for each of the Gathering Charge Rate, Field Zone Transmission Charge Rate and Market Zone Access Charge Rate under Rate Schedules IT and EIT.

Panhandle further states that copies of this filing are being served on all affected customers and applicable state regulatory agencies.

Any person desiring to be heard or to protest said filing should file a motion to intervene or a protest with the Federal Energy Regulatory Commission, 888 First Street, NE., Washington, DC 20426, in accordance with §§ 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at ­http://www.ferc.fed.us/efi/doorbell.htm.

David P. Boergers,
Secretary.

[FR Doc. 01-8791 Filed 4-9-01; 8:45 am]

BILLING CODE 6717-01-M